DEPARTMENT OF COMMERCE

National Oceanic and Atmospheric Administration

50 CFR Part 600

[I.D. 032601C]

Magnuson-Stevens Act Provisions; General Provisions for Domestic Fisheries; Applications for Exempted Fishing Permits (EFPs)

AGENCY: National Marine Fisheries Service (NMFS), National Oceanic and Atmospheric Administration (NOAA), Commerce.

ACTION: Notification of a proposal for EFPs to conduct experimental fishing; request for comments.

SUMMARY: NMFS announces that the Administrator, Northeast Region, NMFS (Regional Administrator), has received a proposal to conduct experimental fishing and has made a preliminary determination that the subject EFP application contains all the required information and warrants further consideration. The Regional Administrator has also made a preliminary determination that the activities authorized under the EFP would be consistent with the goals and objectives of the Northeast Multispecies Fishery Management Plan (FMP). However, further review and consultation may be necessary before a final determination is made to issue EFPs. Therefore, NMFS announces that the Regional Administrator is considering whether to issue an EFP that would allow a single vessel to conduct fishing operations otherwise restricted by regulations governing the fisheries of the Northeastern United States. The Massachusetts Division of Marine Fisheries (MDMF) submitted an application for an EFP that warrants further consideration. The experimental fishery to be conducted under the EFP would target various species of flatfish in order to investigate the cod bycatch of two designs of flatfish trawl nets. The goal of the research is to further the development of flatfish trawl net design in order to reduce cod bycatch by 75 to 90 percent. This notification is intended to provide interested parties the opportunity to comment on the proposed experimental fishery.

DATES: Comments must be received by May 2, 2001.

ADDRESSES: Comments should be sent to Patricia Kurkul, Regional Administrator, NMFS, Northeast Regional Office, One Blackburn Drive, Gloucester, MA 01930. Mark on the outside of the envelope “Comments on Proposed Experimental Fishery.”

FOR FURTHER INFORMATION CONTACT: Tom Warren, Fishery Management Specialist, 978-281-9347.

SUPPLEMENTARY INFORMATION: The regulations that govern exempted experimental fishing, at 50 CFR 600.745, allow the Regional Administrator to authorize for certain purposes the targeting or incidental harvest of managed species that would otherwise be prohibited. An EFP to authorize such activity may be issued, provided there is adequate opportunity for the public to comment on the EFP application, and the conservation goals and objectives of the FMP are not compromised.

The MDMF submitted to NMFS on February 7, 2001, an application for an EFP to conduct gear research in the groundfish fishery in the Gulf of Maine. The research would target flatfish in statistical areas 123 and 124 during the months of April and May, with the objective of comparing two designs of modified flatfish trawl nets to a traditional flatfish net. The goal of the research is to further the design of a flatfish trawl net that could result in significant reductions in the bycatch of cod in the flatfish fishery.

A single vessel would conduct a maximum of four, 3-hr tows on each of 16 days during April and May 2001. A tow using a traditional flatfish net would be alternated with a tow using a modified flatfish net in the same geographic area. Yellowtail flounder is expected to be the predominant species of flatfish caught. The vessel would utilize Days-at-Sea and fish in compliance with the pertinent mesh size, fish size, and trip limit regulations. Legal catch would be kept and marketed in order to defray the costs of the research.

An EFP would be required to exempt the vessel from the restrictions of the Gulf of Maine Rolling Closures. The primary justification the applicant provided for conducting the experiment in Rolling Closure Areas I and II (statistical areas 123 and 124) is that historical data indicate the presence of adequate numbers of cod and flatfish in this area (during April and May) to statistically validate the study results.

Authority: 16 U.S.C. 1801 et seq.

Dated: April 11, 2001.
Bruce C. Morehead,
Acting Director, Office of Sustainable Fisheries, National Marine Fisheries Service.

[FR Doc. 01-9508 Filed 4-16-01; 8:45 am]

BILLING CODE 3510-22-S